DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Humphreys County, Mississippi, and Incorporated Areas
Docket No.: FEMA-B-1159
Shallow Flooding | An area bounded by the county boundary to the west and south, the William M. Whittington Channel Levee to the east, and the confluence with Silver Creek and Straight Bayou to the north | +100 | Unincorporated Areas of Humphreys County
Yazoo River | Approximately 10 miles upstream of State Highway 12 | +117 | Unincorporated Areas of Humphreys County.
| Approximately 19.5 miles upstream of State Highway 12 | +120
* National Geodetic Vertical Datum.
+ North American Vertical Datum.
# Depth in feet above ground.
‸ Mean Sea Level, rounded to the nearest 0.1 meter.
ADDRESSES
Unincorporated Areas of Humphreys County
Maps are available for inspection at 102 Castleman Street, Belzoni, MS 39038.
Taney County, Missouri, and Incorporated Areas
Docket No.: FEMA-B-1175
Beaver Creek (backwater effects from White River) | From the White River confluence to approximately 685 feet upstream of the White River confluence | +698 | Unincorporated Areas of Taney County.
Bee Creek (backwater effects from White River) | From the White River confluence to approximately 1,700 feet upstream of the White River confluence | +698 | Unincorporated Areas of Taney County.
Bull Creek (backwater effects from White River) | From the White River confluence to approximately 0.5 mile upstream of the White River confluence | +716 | City of Rockaway Beach, Unincorporated Areas of Taney County.
Big Shoals Lake | Entire shoreline | +724 | Unincorporated Areas of Taney County.
Cooper Creek (backwater effects from White River) | From the White River confluence to approximately 685 feet upstream of the White River confluence | +724 | City of Branson, Unincorporated Areas of Taney County.
Silver Creek (backwater effects from White River) | From the White River confluence to approximately 0.8 mile upstream of the White River confluence | +698 | Unincorporated Areas of Taney County.
Swan Creek (backwater effects from White River) | From the White River confluence to approximately 1,290 feet upstream of Strawberry Road | +698 | City of Forsyth, Unincorporated Areas of Taney County.
White River | At the downstream side of Powersite Dam | +698 | City of Forsyth, Unincorporated Areas of Taney County.
| At the White County, Arkansas boundary | +698
White River Tributary 16 (backwater effects from White River) | From the White River confluence to approximately 1.5 miles upstream of the White River confluence | +698 | Unincorporated Areas of Taney County.
White River Tributary 24 (backwater effects from White River) | From the White River confluence to approximately 430 feet downstream of Frisco Hills Road | +698 | Unincorporated Areas of Taney County.
White River Tributary 30 (backwater effects from White River) | From the White River confluence to approximately 0.5 mile upstream of the White River confluence | +698 | City of Forsyth, Unincorporated Areas of Taney County.
* National Geodetic Vertical Datum.
+ North American Vertical Datum.
# Depth in feet above ground.
‸ Mean Sea Level, rounded to the nearest 0.1 meter.
ADDRESSES
City of Branson
Maps are available for inspection at City Hall, 110 West Maddux Street, Suite 210, Branson, MO 65616.
City of Forsyth
Maps are available for inspection at City Hall, 15405 U.S. Route 160, Forsyth, MO 65653.
City of Rockaway Beach
Maps are available for inspection at City Hall, 2764 State Route 176, Rockaway Beach, MO 65740.
Unincorporated Areas of Taney County
Maps are available for inspection at the Taney County Courthouse, 132 David Street, Forsyth, MO 65653.
Rio Arriba County, New Mexico, and Incorporated Areas
Docket No.: FEMA-B-1112
Llano Ditch Tributary | Just downstream of McCurdy Road Northwest | +5655 | Pueblo of Ohkay Owingeh, Unincorporated Areas of Rio Arriba County.
| Just upstream of Simmons Lane | +5705
* National Geodetic Vertical Datum.
+ North American Vertical Datum.
# Depth in feet above ground.
‸ Mean Sea Level, rounded to the nearest 0.1 meter.
ADDRESSES
Pueblo of Ohkay Owingeh
Maps are available for inspection at the Pueblo of Okhay Owingeh Governor's Office, 1 Kee Road, Espanola, NM 87532.
Unincorporated Areas of Rio Arriba County
Maps are available for inspection at the Rio Arriba County Clerk's Office, 1122 Industrial Park Road, Espanola, NM 87532.
Jefferson County, Pennsylvania (All Jurisdictions)
Docket No.: FEMA-B-1128
Big Run | Approximately 1,500 feet downstream of the confluence with Trout Run | +1281 | Township of Henderson.
| Approximately 250 feet downstream of the confluence with Trout Run | +1284
Falls Creek | Approximately 1,740 feet downstream of the confluence with Wolf Run | +1399 | Township of Washington.
| Approximately 1,450 feet upstream of the confluence with Wolf Run | +1415
Fivemile Run | Approximately 260 feet upstream of the confluence with Sandy Lick Creek | +1220 | Township of Rose.
| Approximately 240 feet upstream of the confluence with Swamp Run | +1231
Mahoning Creek | Approximately 0.66 mile downstream of Lincoln Avenue | +1227 | Township of Young.
| Approximately 0.64 mile downstream of Lincoln Avenue | +1227
Mahoning Creek | At the confluence with Elk Run | +1234 | Borough of Punxsutawney.
| Approximately 450 feet upstream of Graffius Avenue, on Elk Run | +1234
Mahoning Creek | Approximately 0.44 mile upstream of the confluence with Elk Run | +1237 | Township of Bell.
| Approximately 0.46 mile upstream of the confluence with Elk Run | +1237
Rattlesnake Creek | Approximately 200 feet upstream of the confluence with Rattlesnake Run | +1468 | Township of Washington.
| Approximately 250 feet upstream of the confluence with Rattlesnake Run | +1468
Redbank Creek | Approximately 1 mile upstream of the confluence with Coder Run | +1210 | Township of Rose.
| Approximately 0.70 mile downstream of White Street | +1212
Sandy Lick Creek | Approximately 0.28 mile downstream of 2nd Street | +1216 | Township of Rose.
| Approximately 1,050 feet downstream of 2nd Street | +1217
* National Geodetic Vertical Datum.
+ North American Vertical Datum.
# Depth in feet above ground.
‸ Mean Sea Level, rounded to the nearest 0.1 meter.
ADDRESSES
Borough of Punxsutawney
Maps are available for inspection at the Mahoning East Civic Center, 301 East Mahoning Street, Punxsutawney, PA 15767.
Township of Bell
Maps are available for inspection at the Bell Township Building, 103 Runway Drive, Punxsutawney, PA 15767.
Township of Henderson
Maps are available for inspection at the Henderson Township Hall, 2801 Pine Run Road, Sigel, PA 15767.
Township of Rose
Maps are available for inspection at the Rose Township Hall, 17042 State Route 36, Brookville, PA 15825.
Township of Washington
Maps are available for inspection at the Washington Township Office, 2933 Airport Road, Falls Creek, PA 15840.
Township of Young
Maps are available for inspection at the Young Township Office, 1517 Walston Road, Walston, PA 15781.
Burnet County, Texas, and Incorporated Areas
Docket No.: FEMA-B-1061
Colorado River | Approximately 0.88 mile upstream of the confluence with Wolf Hollow Creek | +163 | Unincorporated Areas of Burnet County.
| At the confluence of Varnhagan Creek | +768
* National Geodetic Vertical Datum.
+ North American Vertical Datum.
# Depth in feet above ground.
‸ Mean Sea Level, rounded to the nearest 0.1 meter.
ADDRESSES
Unincorporated Areas of Burnet County
Maps are available for inspection at 220 South Pierce Street, Burnet, TX 78611.
Ector County, Texas, and Incorporated Areas
Docket No.: FEMA-B-1047
Flooding Effects of Eastside Channel and its Split Flow | Just downstream of Pacific Union Railroad | +2887 | City of Odessa, Unincorporated Areas of Ector County.
| Just downstream of Pueblo Avenue | +2906
| Approximately 200 feet upstream of the intersection of Custer Avenue and Eastside Channel | +2912
Flooding Effects of Monahans Draw | Just upstream of Grandview Road | +2842 | Unincorporated Areas of Ector County.
| Just upstream of South Crane Avenue | +2878
| Just upstream of West County Road | +2884
| Just upstream of Westcliff Drive | +3009
| Just upstream of State Highway 866 | +3043
Flooding effects of Far East Channel and its subsidiary channels | At the confluence of East Side Channel | +2857 | City of Odessa, Unincorporated Areas of Ector County.
| Approximately 450 feet upstream of the intersection of Caliche Road | +2899
| Just upstream of Maple Avenue | +2907
Flooding effects of West Side Drainage Channel | At the confluence of Monahans Draw | +2896 | City of Odessa.
| Just upstream of West 16th Street | +2909
* National Geodetic Vertical Datum.
+ North American Vertical Datum.
# Depth in feet above ground.
‸ Mean Sea Level, rounded to the nearest 0.1 meter.
ADDRESSES
City of Odessa
Maps are available for inspection at 411 West 8th Street, Odessa, TX 79761.
Unincorporated Areas of Ector County
Maps are available for inspection at 521 North Texas Street, Odessa, TX 79761.
Wasatch County, Utah, and Incorporated Areas
Docket No.: FEMA-B-1083
Center Creek | At the confluence with Surplus Canal | +5628 | City of Heber City, Town of Independence, Unincorporated Areas of Wasatch County.
| Approximately 2,914 feet upstream of the upper Center Creek Road crossing | +6573
Humbug Canal | At the confluence with Center Creek | +5685 | City of Heber City, Unincorporated Areas of Wasatch County.
| Approximately 566 feet upstream of 600 South Street | +5692
Lake Creek | At the diversion to South Lake Creek and North Lake Creek | +5860 | Unincorporated Areas of Wasatch County.
| Approximately 0.73 mile upstream of Lake Pines Drive | +6738
Lower Wasatch Canal | At U.S. Route 189 | +5634 | City of Heber City, Unincorporated Areas of Wasatch County.
| Approximately 800 feet upstream of Mill Road | +5694
North Lake Creek | Approximately 800 feet upstream of Mill Road | +5694 | City of Heber City, Unincorporated Areas of Wasatch County.
| At the diversion from Lake Creek | +5860
Snake Creek | At the confluence with the Middle Provo River | +5422 | City of Midway, Unincorporated Areas of Wasatch County.
| Approximately 210 feet upstream of Warm Springs Road | +5760
South Lake Creek | Approximately 566 feet upstream of 600 South Street | +5692 | City of Heber City, Unincorporated Areas of Wasatch County.
| At the diversion from Lake Creek | +5860
Surplus Canal | At the confluence with the Middle Provo River | +5433 | City of Heber City, Unincorporated Areas of Wasatch County.
| At U.S. Route 189 | +5634
Upper Provo River | Approximately 0.52 mile downstream of State Route 32 | +6186 | Unincorporated Areas of Wasatch County.
| Approximately 0.28 mile upstream of Moonlight Drive | +6426
* National Geodetic Vertical Datum.
+ North American Vertical Datum.
# Depth in feet above ground.
‸ Mean Sea Level, rounded to the nearest 0.1 meter.
ADDRESSES
City of Heber City
Maps are available for inspection at 75 North Main Street, Heber City, UT 84032.
City of Midway
Maps are available for inspection at 75 North 100 West, Midway, UT 84032.
Town of Independence
Maps are available for inspection at 4530 East Center Creek Road, Heber City, UT 84032.
Unincorporated Areas of Wasatch County
Maps are available for inspection at 25 North Main Street, Heber City, UT 84032.

(Catalog of Federal Domestic Assistance No. 97.022, “Flood Insurance.”)

Dated: January 30, 2012.
Sandra K. Knight,
Deputy Associate Administrator for Mitigation, Department of Homeland Security, Federal Emergency Management Agency.

[FR Doc. 2012-3171 Filed 2-9-12; 8:45 am]

BILLING CODE 9110-12-P